DEPARTMENT OF COMMERCE

National Oceanic and Atmospheric Administration

Public Comment for Enhancement of the Initial Integrated Ocean Observing System (IOOS)

AGENCY: National Oceanic and Atmospheric Administration (NOAA).

ACTION: Notice of opportunity for written public comment; extension of comment period.

SUMMARY: The National Oceanic and Atmospheric Administration (NOAA) is extending to November 15, 2004, the comment period for the First Annual Integrated Ocean Observing System (IOOS) Development Plan that appeared in the Federal Register of October 15, 2004 (69 FR 199), page 61207. The plan is available at http://www.ocean.us. NOAA in response to requests is extending the comment period to allow interested persons additional time to submit comments. Comments should be submitted via e-mail to k.stump@ocean.us or in writing to Ms. Kristine Stump; Ocean.US; 2300 Clarendon Blvd., Suite 1350; Arlington, VA 22201.

DATES: Comments are due no later than the close of business on Monday, November 15, 2004.

FOR FURTHER INFORMATION CONTACT: Please contact Ms. Kristine Stump, Ocean.US at (703) 588-0855 or e-mail at k.stump@ocean.us.

Dated: October 22, 2004.
Alan Neuschatz,
Acting, Deputy Assistant Administrator for Ocean Services and Coastal Zone Management, National Oceanic and Atmospheric Administration.

[FR Doc. 04-24090 Filed 10-27-04; 8:45 am]

BILLING CODE 3510-10-P